DEPARTMENT OF AGRICULTURE

Forest Service

Notice of Resource Advisory Committee Meeting

AGENCY: Crook County Resource Advisory Committee, Sundance, Wyoming, USDA, Forest Service.

ACTION: Notice of meeting.

SUMMARY: Pursuant to the authorities in the Federal Advisory Committee Act (Pub. L. 92-463) and under the Secure Rural Schools and Community Self-Determination Act of 2000 (Pub. L. 106-393) the Black Hills National Forests' Crook County Resource Advisory Committee will meet Monday, September 16, 2002, in Sundance, Wyoming for a business meeting. The meeting is open to the public.

SUPPLEMENTARY INFORMATION: The business meeting on September 16, begins at 6:30 PM, at Crook County Courthouse Community Room, 309 Cleveland St, Sundance, Wyoming. Agenda topics will include an overview of the committee's enabling legislation, the committee charter, development of operating guidelines, election of chairperson, and scheduling of future meetings. A public forum will begin at 8:30 PM (MT).

FOR FURTHER INFORMATION CONTACT: Steve Kozel, Bearlodge District Ranger and Designated Federal Officer, at (307) 283-1361.

Dated: August 8, 2002.
John Twiss,
Forest Supervisor.

[FR Doc. 02-20558 Filed 8-13-02; 8:45 am]

BILLING CODE 3410-11-M